DEPARTMENT OF ENERGY

Federal Energy Regulatory Commission

[Project No. 13124-002]

Copper Valley Electric Association; Notice of Updated Environmental Analysis Preparation Schedule

a. Type of Application: Original License Application.

b. Project No.: 13124-002.

c. Applicant: Copper Valley Electric Association (Copper Valley).

d. Name of Project: Allison Creek Project.

e. Location: On the south side of Port Valdez, on the shore opposite from the community of Valdez, Alaska, near the Alyeska Marine Terminal and the terminus of the Trans Alaska Pipeline System in Township 9 South, Range 6 West, Seward Meridian, Alaska.

f. Filed Pursuant to: Federal Power Act, 16 U.S.C. 791(a)-825(r).

g. Applicant Contact: Robert A. Wilkinson, CEO, Copper Valley Electric Association, P.O. Box 45, Mile 187 Glenn Highway, Glennallen, Alaska 99588, 907-822-3211, allisonlake@cvea.org.

h. FERC Contact: Kim A. Nguyen, phone (202) 502-6105; email at kim.nguyen@ferc.gov.

i. The proposed project would consist of: (1) A 100-foot by 10-foot diversion structure on Allison Creek; (2) a 7,600-foot-long, 42-inch-diameter buried/above-ground steel pipeline; (3) a 40-foot by 40-foot powerhouse; (4) two 6,500 kilowatt Pelton turbines; (5) a 150-foot-long tailrace; (6) a switchyard; (7) 3.8-mile-long, 34.5 kilovolt transmission line; and (8) appurtenant facilities.

j. On April 7, 2010, Copper Valley filed a Notice of Intent to file an application for an original license and requested to use the Commission's Alternative Licensing Process, which was granted on June 7, 2010. On April 13, 2010, Copper Valley filed a Pre-Application Document including a Preliminary Draft Environmental Assessment for the project. Copper Valley filed their license application on August 29, 2011. On December 9, 2011, the Commission issued a notice of application accepted for filing and solicited comments and final terms and conditions. In January and February of 2012, several resources agencies filed for extensions of time to file comments and terms and conditions. The Commission granted these requests on February 4, 2012.

k. This application has been accepted for filing and is now ready for environmental analysis (EA).

l. At this time, we anticipate the need to prepare a draft and final EA. The draft EA will be sent to all persons and entities on the Commission's service and mailing lists for the project. The EA will include our recommendations for operating procedures, as well as environmental protection and enhancement measures that should be part of any license issued by the Commission. All recipients will then have 30 days to review the EA and file written comments with the Commission. All comments on the draft EA filed with the Commission will be considered in preparation of the final EA.

The major milestones, including those for preparing the EA, are as follows:

Major milestone | Date
License Application Filed | August 30, 2011.
Ready for Environmental Analysis Notice Issued | December 9, 2011.
Deadline for Filing Comments, Recommendations and Agency Terms and Conditions/Prescriptions—extended | April 6, 2012.
Draft EA Issued | September 2012.
Comments on draft EA Due | October 2012.
Final EA Issued | December 2012.

Dated: July 13, 2012.
Kimberly D. Bose,
Secretary.

[FR Doc. 2012-17652 Filed 7-19-12; 8:45 am]

BILLING CODE 6717-01-P